DEPARTMENT OF AGRICULTURE

Animal and Plant Health Inspection Service

9 CFR Part 94

[Docket No. 00-080-2]

Availability of Evaluation Related to Hog Cholera (Classical Swine Fever) Status of East Anglia

AGENCY: Animal and Plant Health Inspection Service, USDA.

ACTION: Notice of availability and request for comments.

SUMMARY: We are advising the public that an evaluation has been prepared by the Animal and Plant Health Inspection Service concerning the hog cholera (classical swine fever) status of East Anglia, a region of England that includes the counties of Essex, Norfolk, and Suffolk, and the related disease risks associated with importing animals and animal products into the United States from East Anglia. This evaluation will be used as a basis for determining whether to relieve certain prohibitions and restrictions on the importation of pork and pork products and swine into the United States from East Anglia. We are making this evaluation available to the public for review and comment.

DATES: We will consider all comments that we receive on or before May 12, 2003.

ADDRESSES: You may submit comments by postal mail/commercial delivery or by e-mail. If you use postal mail/commercial delivery, please send four copies of your comment (an original and three copies) to: Docket No. 00-080-2, Regulatory Analysis and Development, PPD, APHIS, Station 3C71, 4700 River Road Unit 118, Riverdale, MD 20737-1238. Please state that your comment refers to Docket No. 00-080-2. If you use e-mail, address your comment to regulations@aphis.usda.gov. Your comment must be contained in the body of your message; do not send attached files. Please include your name and address in your message and “Docket No. 00-080-2” on the subject line.

You may read any comments that we receive on the evaluation in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Charisse Cleare, Senior Staff Veterinarian, National Center for Import and Export, VS, APHIS, 4700 River Road Unit 38, Riverdale, MD 20737-1231; (301) 734-4928.

SUPPLEMENTARY INFORMATION:

Background

The regulations in 9 CFR part 94 (referred to below as the regulations) govern the importation of certain animals and animal products into the United States in order to prevent the introduction of various animal diseases, including rinderpest, foot-and-mouth disease, African swine fever, hog cholera (classical swine fever), and swine vesicular disease. These are dangerous and destructive communicable diseases of ruminants and swine. Section 94.9 of the regulations restricts the importation into the United States of pork and pork products from regions where hog cholera is known to exist. Section 94.10 of the regulations, with certain exceptions, prohibits the importation of swine that originate in or are shipped from or transit any region in which hog cholera is known to exist. The regulations in §§ 94.9(a) and 94.10(a) provide that hog cholera exists in all regions of the world except for certain regions listed in those sections.

In an interim rule effective August 4, 2000, and published in the Federal Register on September 20, 2000 (65 FR 56774-56775, Docket No. 00-080-1), we amended the regulations by removing East Anglia (a region of England that includes Essex, Norfolk, and Suffolk counties) from the lists of regions considered to be free of hog cholera. That action was necessary because hog cholera had been confirmed in this region. The effect of the interim rule was to restrict the importation of pork and pork products and to prohibit the importation of swine into the United States from East Anglia.

Although we removed East Anglia from the list of regions considered to be free of hog cholera, we recognized that Great Britain's Ministry of Agriculture, Fisheries and Food, now part of the Department for Environment, Food, and Rural Affairs, immediately responded to the detection of hog cholera by initiating measures to eradicate the disease. We stated that we intended to reassess the situation in the region at a future date in accordance with Office International des Epizooties standards, and that as part of that reassessment process, we would consider all comments received regarding the interim rule.

Additionally, we stated that the future assessment would enable us to determine whether it was necessary to continue to prohibit the importation of swine and to restrict the importation of pork and pork products from East Anglia, or whether we could restore East Anglia to the list of regions in which hog cholera is not known to exist.

In this notice, we are announcing the availability for review and comment of a document entitled “APHIS Evaluation of the Classical Swine Fever Status of East Anglia (counties of Norfolk, Suffolk, and Essex) November 2002.” This evaluation assesses the hog cholera (classical swine fever) status of East Anglia and the related disease risks associated with importing animals and animal products into the United States from East Anglia. This evaluation will serve as a basis for our determination whether to relieve certain prohibitions and restrictions on the importation of swine and pork and pork products into the United States from East Anglia. We are making the evaluation available for public comment for 60 days.

You may view the evaluation in our reading room (information on the location and hours of the reading room is provided under the heading ADDRESSES at the beginning of this notice). You may also request a copy by calling or writing to the person listed under FOR FURTHER INFORMATION CONTACT. Please refer to the title of the evaluation when requesting copies.

You may also view the evaluation on the Internet at http://www.aphis.usda.gov/vs/ncie/reg-request.html. At the bottom of the website page, click on “Information previously submitted by Regions requesting export approval and their supporting documentation.” At the next screen, click on the triangle beside “European Union/Not Specified/Classical Swine Fever,” then on the triangle beside “Response by APHIS.” A link will then appear for “APHIS Evaluation of Classical Swine Fever Status of East Anglia (counties of Norfolk, Suffolk, and Essex) November 2002.” Following that link will allow you to view the evaluation.

Authority: 7 U.S.C. 450, 7701-7772, and 8301-8317; 21 U.S.C. 136 and 136a; 31 U.S.C. 9701; 42 U.S.C. 4331 and 4332; 7 CFR 2.22, 2.80, and 371.4.

Done in Washington, DC, this 7th day of March, 2003.
Kevin Shea,
Acting Administrator, Animal and Plant Health Inspection Service.

[FR Doc. 03-6059 Filed 3-12-03; 8:45 am]

BILLING CODE 3410-34-P